FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 5, 2013.

A. Federal Reserve Bank of Philadelphia (William Lang, Senior Vice President) 100 North 6th Street, Philadelphia, Pennsylvania 19105-1521:

1. Gateano P. Giordano and Mark J. Baiada, both of Moorestown, New Jersey, to acquire voting shares of Cornerstone Financial Corporation, and thereby indirectly acquire voting shares of Cornerstone Bank, both in Mt. Laurel, New Jersey.

B. Federal Reserve Bank of Atlanta (Chapelle Davis, Assistant Vice President) 1000 Peachtree Street NE., Atlanta, Georgia 30309:

1. George and Calliope Apostolou; Panagiotis Apostolou; Mark S. and Linda C. Berset; Derek S. Berset; Gary N. and Eileen L. Berset; Jason N. Berset; Kristin N. Berset; Larry C. and Mary S. Cunningham; Dennis R. Deloach, III; Jeffory H. and Sherry B. Forbes; Mohamed and Amira Helal; Nadine Helal; Tarek Helal; K&M Insurance Investors, LLC; Trifon Houvardas; Paul Houvardas; Bruce T. and Sheba Lucas; Universal Finance & Investments LLC; Sanjay Madhu; Alex Madhu; Andrew Madhu; Felix & Fiona, LLC; Ahmad Nematbakhsh; Harish and Khyati Patel; Pareshbhai and Neha Patel; Gregory Politis; Christos and Effie Politis; Peter Politis; Anthony and Maria Z. Saravanos; Shane R. and Nicole F. Stowell; Martin Traber; Mary J. Vattamattam; Shaju and Miriam Vattamattam; and Harold J. Winner, all of Seminole, Florida; to retain voting shares of First Home Bancorp, Inc., and thereby indirectly retain voting shares of First Home Bank, both in Seminole, Florida.

C. Federal Reserve Bank of Minneapolis (Jacqueline G. King, Community Affairs Officer) 90 Hennepin Avenue, Minneapolis, Minnesota 55480-0291:

1. Richard Lee Newman, Mayville, North Dakota; to acquire voting shares of Full Service Insurance Agency Inc., and thereby indirectly acquire voting shares of First State Bank, both in Buxton, North Dakota.

Board of Governors of the Federal Reserve System, February 13, 2013.
Michael J. Lewandowski,
Assistant Secretary of the Board.

[FR Doc. 2013-03717 Filed 2-15-13; 8:45 am]

BILLING CODE 6210-01-P